DEPARTMENT OF HEALTH AND HUMAN SERVICES

Health Resources and Services Administration

Agency Information Collection Activities: Proposed Collection: Comment Request

In compliance with the requirements for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain copy of the data collection plans and draft instruments, call the HRSA Reports Clearance Officer on (301) 443-1129.

Comments are invited on: (a) Whether the proposed collection of information is necessary for the proper performance of the functions of the agency, including whether the information shall have practical utility, (b) the accuracy of the agency's estimate of the burden of the proposed collection of information; (c) ways to enhance the quality, utility and clarity of the information to be collected; and (d) ways to minimize the burden of the collection of information on respondents, including through the use of automated collection techniques or other forms of information technology.

Proposed Project: Hospital Available Beds for Emergencies and Disasters (HAvBED) System: (NEW)

The HAvBED system will be a web-based hospital bed reporting/tracking system to assist the U.S. Department of Health and Human Services (HHS) only during disasters and public health emergencies. HAvBED does not duplicate the systems already in place to track hospital beds. It is designed to dynamically amalgamate data and accept manually entered data to give emergency operations managers a real-time view of specific hospital bed availability on a large geographic scale. During a disaster or public health emergency States will be asked to report hospital bed availability no more than twice daily; although the severity of the event may require less or more reporting per day.

Currently, hospital bed tracking systems are operational in some States to meet the needs of the healthcare system during routine operations. Local and State governments, emergency management agencies and the healthcare systems have developed systems that support jurisdictional emergency operations without regard to cooperation with outside systems or entities. Local systems have been developed over time to meet the changing needs at the local level. The systems have been developed locally to meet the needs of the local healthcare system. A mass casualty event would overwhelm the ability of local systems to work out their differences in the middle of a response.

During a disaster or public health emergency it may be necessary for Federal officials to work with State partners to evacuate or move patients from one area of the country to another as was the case during hurricanes Katrina and Rita in 2005. The health and safety of the hospital patient is paramount at all times during a hospital stay, but never more acute while being moved to another location. To ensure that patients receive the highest level of care during an emergency it is necessary to know where the necessary resources are in real-time.

The estimate of burden is based on hospitals reporting the data twice a day everyday for two weeks.

Submission type | Number of respondents | Responses per respondent | Total responses | Hours per response | Total burden hours
HAvBED | 100 | 28 * | 2,800 | .083 | 233
* Based on 2 responses per day for a period of 14 days.

If a mass casualty event occurred and hundreds of hospital patients or victims needed hospital care across the country, it is possible that hundreds of hospitals would be needed to house the wounded. In that case the burden estimate would increase proportionally to the needs of the event.

Send comments to Susan G. Queen, Ph.D., HRSA Reports Clearance Officer, Room 10-33, Parklawn Building, 5600 Fishers Lane, Rockville, MD 20857. Written comments should be received within 60 days of this notice.

Dated: June 6, 2006.
Cheryl R. Dammons,
Director, Division of Policy Review and Coordination.

[FR Doc. E6-9210 Filed 6-12-06; 8:45 am]

BILLING CODE 4165-15-P